ENVIRONMENTAL PROTECTION AGENCY

[FRL-7589-9]

Proposed Administrative Settlement; Richmond Townhouse Apartments Site

AGENCY: Environmental Protection Agency (EPA).

ACTION: Notice; request for public comment.

SUMMARY: In accordance with the Comprehensive Environmental Response, Compensation, and Liability Act of 1980, as amended by the Superfund Amendments and Reauthorization Act of 1986 (CERCLA), 42 U.S.C. 9600 et seq., notice is hereby given that a proposed Agreement and Covenant Not to Sue (Prospective Purchaser Agreement) associated with the Richmond Townhouse Apartments Superfund Site was executed by the United States Environmental Protection Agency (EPA) on November 12, 2003. The proposed Prospective Purchaser Agreement would resolve certain potential claims of the United States under sections 106 and 107(a) of CERCLA, 42 U.S.C. 9606 and 9607(a) against Carlson Boulevard, L.P.; Community Housing Development Corporation of North Richmond; Devine & Gong, Inc.; and The John Stewart Company (the Purchaser). The Purchaser plans to acquire the 10-acre parcel constituting the Superfund Site, located at 2989 Carlson Boulevard, Richmond, California, and continue to operate it as low income housing.

In exchange for the settlement, Carlson has agreed to pay EPA $100,000 in cash. In addition, Carlson has agreed to comply with a Covenant to Restrict Use of Property.

For thirty (30) calendar days following the date of publication of this notice, EPA will receive written comments relating to the proposed settlement. EPA's response to any comments received will be available for public inspection at 75 Hawthorne Street, San Francisco, CA 94105.

DATES: Comments must be submitted on or before December 24, 2003.

ADDRESSES: The proposed Prospective Purchaser Agreement is available for public inspection at EPA Region IX, 75 Hawthorne Street, San Francisco, California. A copy of the proposed settlement may be obtained from Janet Magnuson, EPA Region IX, 75 Hawthorne Street, ORC-3, San Francisco, CA 94105, telephone number 415-972-3887. Comments should reference the Richmond Townhouse Apartments Superfund Site, Richmond, California and EPA Docket No. 2004-05 and should be addressed to Janet Magnuson at the above address.

FOR FURTHER INFORMATION CONTACT: Janet Magnuson, Assistant Regional Counsel (ORC-3), Office of Regional Counsel, U.S. EPA Region IX, 75 Hawthorne Street, San Francisco, CA 94105; phone: (415) 972-3887; fax: (415) 947-3570; e-mail: magnuson.janet@epa.gov.

Dated: November 14, 2003.
Nancy Lindsay,
Acting Director, Superfund Division, Region IX.

[FR Doc. 03-29316 Filed 11-21-03; 8:45 am]

BILLING CODE 6560-50-P